DEPARTMENT OF COMMERCE

Patent and Trademark Office

[Docket No.: PTO-P-2023-0038]

USPTO AI/ET Partnership: Public Meeting on Artificial Intelligence Tools and Data

AGENCY: United States Patent and Trademark Office, U.S. Department of Commerce.

ACTION: Notice of public meeting.

SUMMARY: The United States Patent and Trademark Office (USPTO) plays an important role in incentivizing and protecting innovation, including innovation driven by artificial intelligence (AI), a transformative technology that holds promise for tremendous societal and economic benefit. The USPTO embraces an expansive view of the potential of AI and other emerging technologies (ET) as tools to be leveraged for advancing equitable access to the intellectual property (IP) system, improving agency operations, and enhancing employee effectiveness. Development and implementation of AI-enabled tools at the USPTO advances national priorities in IP to protect and promote inclusive, transparent, and trustworthy innovation. The USPTO will host a public meeting on AI tools and data virtually and in person at the USPTO headquarters on September 27, 2023, at 10:30 a.m. ET. This will be the fourth meeting in the USPTO's AI/ET Partnership Series. First announced in June 2022, the AI/ET Partnership provides an opportunity to bring stakeholders together through a series of engagements to share ideas, feedback, experiences, and insights on the intersection of IP and AI/ET.

DATES: The public meeting will be held on September 27, 2023, from 10:30 a.m. to 4 p.m. ET. Persons seeking to attend, either virtually or in person, must register by September 24, 2023, at the website listed in the ADDRESSES section of this notice.

ADDRESSES: Register at https://www.uspto.gov/about-us/events/aiet-partnership-series-4-ai-data-set-and-tools. The public meeting will be held virtually and in person at the USPTO headquarters, Clara Barton Auditorium, 600 Dulany St., Alexandria, VA 22314. Registration is required for both virtual and in person attendance.

The public meeting will be physically accessible to people with disabilities. Individuals requiring accommodation, such as sign language interpretation or other ancillary aids, should communicate their needs to an individual listed under the FOR FURTHER INFORMATION CONTACT section of this notice at least seven (7) business days prior to the public meeting.

FOR FURTHER INFORMATION CONTACT: Aleksandr Kerzhner, Supervisory Patent Examiner, at 571-270-1760, or Aleksandr.Kerzhner@uspto.gov; or Srilakshmi Kumar, Supervisory Patent Examiner, at 571-272-7769, or Srilakshmi.Kumar@uspto.gov. You can also send inquiries to AIPartnership@uspto.gov. Please direct all media inquiries to the Office of the Chief Communications Officer at 571-272-8400.

SUPPLEMENTARY INFORMATION: The USPTO held its inaugural AI/ET Partnership meeting virtually in June 2022. This meeting provided an overview of the National AI Initiative and the USPTO's efforts on AI/ET, including the USPTO AI Patent Dataset. The meeting also discussed important patent policy issues related to AI/ET inventions, such as subject matter eligibility, disclosure, and inventorship.

In September 2022, the USPTO held its second AI/ET Partnership meeting virtually and in person at the USPTO's Silicon Valley Regional Office. This meeting focused on AI and biotechnology and explored current trends highlighting the convergence of technologies in the life sciences and AI, as well as the IP considerations arising from this technological convergence.

In February 2023, the USPTO held its third AI/ET Partnership meeting virtually and in person at the Arts District Mansion in Dallas, Texas. This meeting focused on various IP policy issues with respect to AI-driven innovation, including the current state of AI-driven innovation, ways to address inventions created with significant AI contributions, and unanticipated IP challenges from AI-driven innovation.

The USPTO will hold its fourth AI/ET Partnership meeting virtually and in person at the USPTO headquarters in Alexandria, Virginia, on September 27, 2023. Presentations and panel discussions will focus on: efforts at the USPTO and elsewhere to harness AI to benefit stakeholders and the IP system, the value of USPTO data in advancing the state-of-the-art in AI, and timely policy issues as to trustworthy and responsible AI.

Instructions and Information on the Public Meeting

The public meeting will be held virtually and in person at the USPTO headquarters, Clara Barton Auditorium, 600 Dulany St., Alexandria, VA 22314, from 10:30 a.m. to 4 p.m. ET. The agenda is available on the USPTO website at https://www.uspto.gov/about-us/events/aiet-partnership-series-4-ai-data-set-and-tools. Registrations to attend the meeting must be submitted on the same web page.

Katherine K. Vidal,
Under Secretary of Commerce for Intellectual Property and Director of the United States Patent and Trademark Office.

[FR Doc. 2023-18044 Filed 8-21-23; 8:45 am]

BILLING CODE 3510-16-P